DEPARTMENT OF TRANSPORTATION

Surface Transportation Board

[STB Finance Docket No. 34936; STB Finance Docket No. 34936 (Sub-No. 1)]

Port of Moses Lake—Construction Exemption—Moses Lake, WA; Port of Moses Lake—Acquisition Exemption—Moses Lake, WA

Co-Lead Agencies: Surface Transportation Board and Washington State Department of Transportation.

ACTION: Notice of Availability of Final Environmental Assessment.

SUMMARY: By petition filed on August 28, 2008, the Port of Moses Lake (Port) seeks an exemption under 49 U.S.C. 10502 from the prior approval requirements of 49 U.S.C. 10901 to construct rail lines in Grant County, Washington. In the same petition, the Port also seeks an exemption under 49 U.S.C. 10502 from the prior approval requirements of 49 U.S.C. 10901 to acquire an existing segment of rail line from Columbia Basin Railroad Company, Inc. The proposed project, known as the Northern Columbia Basin Railroad Project, includes the construction of two new rail line segments and the acquisition and refurbishment of an existing rail segment to provide rail access to land designated and zoned for industrial uses along Wheeler Road (Road 3 NE) and at the Grant County International Airport. The entire proposed route would extend approximately 11.5 miles.

The Board, pursuant to 49 U.S.C. 10901, is the agency responsible for granting authority for the construction and operation of new rail line facilities. The Board's Section of Environmental Analysis (SEA) and the Washington State Department of Transportation (WSDOT), as co-lead agencies responsible for the environmental review of the proposed rail project, issued an Environmental Assessment (EA) on November 7, 2008. The EA was made available to Federal, state and local agencies; tribes; the public; and interested parties for a 30-day public comment period, and SEA and WSDOT received 29 comments. The Final Environmental Assessment (Final EA) responds to comments; considers new alternatives, including an alignment modification; clarifies, corrects or adds to information that was in the EA, primarily regarding impacts to wetlands, impacts to irrigated farmland, and cumulative impacts; and makes final environmental recommendations to the Board.

Based on an independent analysis of all information available to date, SEA and WSDOT conclude that the proposed action would not result in any significant environmental impacts if the mitigation measures recommended in the Final EA are imposed and implemented. Accordingly, SEA recommends that any decision by the Board approving the proposed action impose conditions requiring the Port to comply with the mitigation measures set forth in Chapter Five of the Final EA. Because the proposed action, as mitigated, would not have the potential for significant environmental effects, preparation of an EA for this case is appropriate and the full Environmental Impact Statement process is unnecessary.

The Board will now consider the entire environmental record, including the final recommended mitigation measures and all environmental comments received in this proceeding, in making its final decision as to whether to approve the proposed action, and if so, what mitigation to impose.

Copies of the Final EA have been served on all interested parties and will be made available to additional parties upon request. The entire Final EA is also available for review on the Board's Web site (http://www.stb.dot.gov) by going to “E-LIBRARY,” clicking on the “Decisions and Notices” link, and then searching by the Service Date (May 8, 2009) or Docket Number (FD 34936).

FOR FURTHER INFORMATION CONTACT: Christa Dean, Attorney and Project Manager, at (202) 245-0299; e-mail: christa.dean@stb.dot.gov, or Elizabeth Phinney, WSDOT Rail Environmental Manager, at (360) 705-7902; e-mail: phinnee@wsdot.wa.gov. Federal Information Relay Service for the hearing impaired: 1-800-877-8339.

By the Board, Victoria Rutson, Chief, Section of Environmental Analysis.
Decided: May 8, 2009.
Kulunie L. Cannon,
Clearance Clerk.

[FR Doc. E9-10667 Filed 5-7-09; 8:45 am]

BILLING CODE 4915-01-P